DEPARTMENT OF HOMELAND SECURITY

U.S. Citizenship and Immigration Services

8 CFR Parts 103, 204, 214 and 299

[DHS Docket No. USCIS-2005-0030; CIS No. 2302-05]

RIN 1615-AA16

Special Immigrant and Nonimmigrant Religious Workers; Reopening the Public Comment Period

AGENCY: U.S. Citizenship and Immigration Services, DHS.

ACTION: Proposed rule; extending and reopening the public comment period.

SUMMARY: U.S. Citizenship and Immigration Services announces the extension and reopening of the public comment period for the proposed rule entitled “Special Immigrant and Nonimmigrant Religious Workers.” The proposed rule was initially published in the Federal Register on April 25, 2007. Written comments on the proposed rule were to be submitted on or before June 25, 2007 (a 60-day comment period) in order to be assured of consideration. U.S. Citizenship and Immigration Services has decided to accept late-filed comments and reopen the public comment period for an additional 15 days.

DATES: Written comments on the proposed rule must be submitted on or before November 16, 2007. Comments received by USCIS after this date will not be considered.

ADDRESSES: You may submit comments, identified by DHS Docket No. USCIS-2005-0030, by one of the following methods:

• Federal eRulemaking Portal: http://www.regulations.gov. Follow the instructions for submitting comments.

• Mail: Chief, Regulatory Management Division, U.S. Citizenship and Immigration Services, Department of Homeland Security, 111 Massachusetts Avenue, NW., 3rd Floor, Washington, DC 20529. To ensure proper handling, please reference DHS Docket No. USCIS-2005-0030 on your correspondence. This mailing address may also be used for paper, disk, or CD-ROM submissions.

• Hand Delivery/Courier: Regulatory Management Division, U.S. Citizenship and Immigration Services, Department of Homeland Security, 111 Massachusetts Avenue, NW., 3rd Floor, Washington, DC 20529. Contact Telephone Number (202) 272-8377.

FOR FURTHER INFORMATION CONTACT: Rodger Pitcairn, Adjudications Officer, Service Center Operations, U.S. Citizenship and Immigration Services, Department of Homeland Security, 111 Massachusetts Avenue, NW., 3rd Floor, Washington, DC 20529, telephone: 202-272-8410, fax: 202-272-1398, e-mail: rodger.pitcairn@dhs.gov.

SUPPLEMENTARY INFORMATION: On April 25, 2007, U.S. Citizenship and Immigration Services (USCIS) published a proposed rule entitled, “Special Immigrant and Nonimmigrant Religious Workers,” at 72 FR 20442. This rule proposed significant amendments to USCIS regulations governing the special immigrant religious worker category. You may view a copy of the April 25, 2007, proposed rule at http://a257.g.akamaitech.net/7/257/2422/01jan20071800/edocket.access.gpo.gov/2007/E7-7743.htm.

USCIS received numerous comments by the close of the 60-day public comment period, June 25, 2007. However, several potential commenters have requested additional time to prepare and submit comments. Accordingly, USCIS has decided to reopen the comment period for an additional 15 days, beginning on November 1, 2007 and ending on November 16, 2007. In addition to this comment period reopening, USCIS will extend the original comment period for the interim period between the close of the original comment period on June 25, 2007, and November 16, 2007 and consider those comments received during that period as timely submitted. Comments received by USCIS after November 16, 2007 will not be considered in drafting the final rule.

Dated: October 25, 2007.
Emilio T. Gonzalez,
Director, U.S. Citizenship and Immigration Services.

[FR Doc. E7-21469 Filed 10-31-07; 8:45 am]

BILLING CODE 4410-10-P